FEDERAL COMMUNICATIONS COMMISSION

[OMB 3060-1302; FR ID 273055]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before February 13, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page https://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1302. Title: Wireless Emergency Alerts (WEA) False Alert Reporting.

Form No.: N/A.

Type of Review: Revision of a currently approved information collection.

Respondents: State, Local, Territorial, Tribal, or Federal Government.

Number of Respondents and Responses: 23,201 respondents; 15 responses.

Estimated Time per Response: 1 hour.

Frequency of Response: On occasion reporting requirement.

Obligation to Respond: Voluntary. Statutory authority for this information collection is contained in 47 U.S.C. 151, 152, 154(i), 154(o), 301, 303(r), 303(v), 307, 309, 335, 403, 544(g), 606, 613, 1201, 1202, 1203, 1204 and 1206. Total Annual Burden: 15 hours.

Total Annual Cost: No cost.

Needs and Uses: This is a request for a revision of a currently approved information collection related to two regulations under the Commission's part 10 Wireless Emergency Alert (WEA) rules. No other information collections contained in the Commission's regulations will be impacted by the rules described herein.

The WEA system is a mechanism under which Commercial Mobile Service (CMS) providers may elect to transmit emergency alerts to the public. The Commission created WEA (previously known as the Commercial Mobile Service Alert System) as required by Congress in the Warning Alert and Response Network (WARN) Act and to satisfy the Commission's mandate to promote the safety of life and property through the use of wire and radio communication.

On January 1, 2021, Congress passed the William M. (Mac) Thornberry National Defense Authorization Act for Fiscal Year 2021 (NDAA21). Section 9201 of the NDAA21 required the Commission to complete a rulemaking and adopt rules within 180 days to make certain changes to its WEA regulations, and also to its separate Emergency Alert System (EAS) regulations governing broadcast, cable television, and direct satellite media emergency alerts.

With respect to the WEA rule changes, Section 9201 directed the Commission to ensure that the mobile devices of CMS providers that have elected to participate in WEA cannot opt out of receiving WEA alerts from the Federal Emergency Management Agency (FEMA) Administrator, and to enable reporting by the FEMA Administrator and State, Tribal, or Local governments of false WEA alerts. On June 21, 2021, the Commission released its Report and Order in PS Dockets 15-91 and 15-94 (NDAA21 Alerting Order), FCC 21-77, adopting the WEA and EAS changes directed by Congress in the NDAA21. The EAS changes are the subject of a different notice to be published separately.

The NDAA21 Alerting Order implemented Congresses' new directives for WEA, in part, with two new regulations that impose new burdens on respondents: the handset display update, and false alert reporting. The handset display update requirement has since been fulfilled by respondents and the burdens will be removed from this collection pursuant to the revisions in this information collection. With respect to false alert reporting, the Commission adopted a rule permitting the FEMA Administrator or a State, Local, Tribal, or Territorial government to voluntarily report WEA false alerts to the FCC Operations Center at FCCOPS@fcc.gov, informing the Commission of the event and any relevant details. This rule created a voluntary mechanism for collection of information so that the Commission can monitor these false alert events which can undermine public confidence in the reliability of emergency alerting and WEA. Email reporting was adopted as a minimally-burdensome way for government entities to report false alerts. The WEA false alert reporting regulation is codified at 47 CFR 10.520(d)(2).

Federal Communications Commission.
Marlene Dortch,
Secretary, Office of the Secretary.

[FR Doc. 2025-00647 Filed 1-13-25; 8:45 am]

BILLING CODE 6712-01-P